DEPARTMENT OF AGRICULTURE

National Agricultural Library

Notice of Intent To Seek Approval To Collect Information

AGENCY: USDA, Agricultural Research Service, National Agricultural Library.

ACTION: Notice and Request for comments.

SUMMARY: In accordance with the Paperwork Reduction Act of 1995 (Pub. L. 104-13) and Office of Management and Budget (OMB) regulations at 5 CFR part 1320 (60 FR 44978, August 29, 1995), this notice announces the National Agricultural Library's intent to request renewal of an approved electronic mailing list subscription form from those whose who work in the nutrition and food safety fields.

DATES: Comments on this notice must be received by September 9, 2009 to be assured of consideration.

ADDRESSES: Address all comments concerning this notice to Janice Schneider, Information Specialist, Food and Nutrition Information Center, U.S. Department of Agriculture National Agricultural Library, 10301 Baltimore Avenue, Beltsville, Maryland 20705. Comments may be sent by facsimile to (301) 504-6047, fax to (301) 504-6409, or e-mail to jschneid@ars.usda.gov.

FOR FURTHER INFORMATION CONTACT: Janice Schneider, telephone (301) 504-6047.

SUPPLEMENTARY INFORMATION: Title: Electronic Mailing List Subscription Form.

OMB Number: 0518-0036.

Expiration Date: 10/31/2009.

Type of Request: Approval for data collection from individuals working in the areas of nutrition and food safety.

Abstract: This form contains seven items and is used to collect information about participants who are interested in joining an electronic discussion group. The form collects data to see if a person is eligible to join the discussion group. Because these electronic discussion groups are only available to people who work in the areas of nutrition and food safety, it is necessary to gather this information. The questionnaire asks for the person's name, e-mail address, job affiliation, telephone number, and address.

Estimate of Burden: Public reporting burden for this collection of information is estimated to average one minute per response.

Respondents: Individuals who are interested in joining an electronic discussion group.

Estimated Number of Respondents: 1,000 per year.

Estimated Total Annual Burden on Respondents: 1,000 minutes or 16.66 hours.

Comments are invited on (a) Whether the proposed collection of information is necessary for the proper performance of the functions of the agency, including whether the information will have practical utility; (b) the accuracy of the agency's estimate of the burden of the proposed collection of information, including the validity of the methodology and the assumptions used; (c) ways to enhance the quality, utility, and clarity of the information to be collected; and (d) ways to minimize the burden of the collection of information on those who respond, including the use of appropriate automated, electronic, mechanical, or other technology. Comments should be sent to the address in the preamble. All responses to this notice will be summarized and included in the request for Office of Management and Budget (OMB) approval. All comments will become a matter of public record.

Dated: June 1, 2009.
Antoinette Betschart,
Associate Administrator, ARS.

[FR Doc. E9-15685 Filed 7-2-09; 8:45 am]

BILLING CODE 3410-03-P